DEPARTMENT OF TRANSPORTATION

Federal Aviation Administration

14 CFR Part 71

[Docket No. FAA-2015-7489; Airspace Docket No. 15-ASW-20]

Amendment of Class D and E Airspace; Enid Vance AFB, OK; Enid Woodring Municipal Airport, Enid, OK; and Enid, OK

AGENCY: Federal Aviation Administration (FAA), DOT.

ACTION: Final rule; delay of effective date, correction.

SUMMARY: This action changes the effective date of a final rule published in the Federal Register of February 19, 2016, amending Class E surface area airspace, Class E airspace designated as an extension, and Class E airspace extending upward from 700 feet above the surface, in the Enid, OK, area to allow additional time for charting. This correction adds the part-time Notice to Airmen (NOTAM) language inadvertently removed from the Class E surface area description for Vance AFB, and Woodring Municipal Airport, Enid, OK. Adjustment of the geographic coordinates are also made to the Vance VHF Omnidirectional Range Tactical Air Navigation (VORTAC) listed in the Class E airspace area designated as an extension to the Class D surface area.

DATES: This correction is effective 0901 UTC, July 21, 2016, and the effective date of the rule amending 14 CFR part 71 published on February 19, 2016 (81 FR 8389), is delayed to 0901 UTC July 21, 2016.

The Director of the Federal Register approves this incorporation by reference action under Title 1, Code of Federal Regulations, part 51, subject to the annual revision of FAA Order 7400.9 and publication of conforming amendments.

FOR FURTHER INFORMATION CONTACT: Jeffrey Claypool, Federal Aviation Administration, Operations Support Group, Central Service Center, 10101 Hillwood Parkway, Fort Worth, TX, 76177; telephone (817) 222-5711.

SUPPLEMENTARY INFORMATION:

History

The Federal Register published a final rule amending Class E surface area airspace, Class E airspace designated as an extension, and Class E airspace extending upward from 700 feet above the surface, at Vance AFB, Enid, OK; and Woodring Municipal Airport, Enid, OK (81 FR 8389, February 19, 2016) Docket No. FAA-2015-7489. Subsequent to publication, the FAA determined that the part-time NOTAM language in the Class E surface area description was inadvertently removed in error. Potential safety concerns were identified due to the possibility for confusion in determining the operating rules and equipment requirements in the Vance AFB and Woodring Municipal Airport terminal areas. The concerns were based on the opportunity for part-time Class D surface area airspace and continuous Class E surface area airspace to be active at the same time.

To resolve these concerns, the FAA is keeping the part-time NOTAM language in the Class E surface area description to retain it as part-time airspace supplementing the existing part-time Class D surface area airspace at Vance AFB and Woodring Municipal Airport. The regulatory text is rewritten for clarity. A minor adjustment is also made to the geographic coordinates of the Vance VORTAC listed in Class E airspace area designated as an extension to Class D. These are administrative corrections and do not affect the controlled airspace boundaries or operating requirements supporting operations in the Vance AFB and Woodring Municipal Airport terminal areas.

Correction to Final Rule

Accordingly, pursuant to the authority delegated to me, in the Federal Register of February 19, 2016 (81 FR 8389) FR Doc. 2016-03365, Amendment of Class D and E Airspace; Enid Vance AFB, Ok; Enid Woodring Municipal Airport, Enid, OK; and Enid, OK, is corrected as follows:

§ 71.1 [Amended]

ASW OK E2 Enid, OK [Corrected]

On page 8390, column 3, beginning on line 42, remove the following text:

“Within a 5.1-mile radius of Vance AFB, and within a 4.1-mile radius of Woodring Municipal Airport.”, and add in its place:

“Within a 5.1-mile radius of Vance AFB, and within a 4.1-mile radius of Woodring Municipal Airport. This Class E airspace area is effective during the specific dates and times established in advance by a Notice to Airmen. The effective date and time will thereafter be continuously published in the Airport/Facility Directory.”

ASW OK E4 Enid Vance AFB, OK [Corrected]

On page 8390, column 3, line 54, remove “(lat. 36°20′42″ N., long. 97°55′07″ W.)” and add in its place “(lat. 36°20′42″ N., long. 97°55′06″ W.)”

Issued in Fort Worth, Texas, on March 1, 2016.
Vonnie Royal
Acting Manager, Operations Support Group, ATO Central Service Center.

[FR Doc. 2016-05395 Filed 3-10-16; 8:45 am]

BILLING CODE 4910-13-P